DEPARTMENT OF DEFENSE

Office of the Secretary

[Transmittal No. 23-51]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-51, Policy Justification, and Sensitivity of Technology.

Dated: October 17, 2024.
Aaron T. Siegel,
Alternate OSD Federal Register Liaison Officer, Department of Defense.

BILLING CODE 6001-FR-P

BILLING CODE 6001-FR-C

Transmittal No. 23-51

Notice of Proposed Issuance of Letter of Offer Pursuant to Section 36(b)(1) of the Arms Export Control Act, as amended

(i) Prospective Purchaser: Government of Germany

(ii) Total Estimated Value:

Major Defense Equipment * | $2.46 billion
Other | $0.44 billion
TOTAL | $2.90 billion

(iii) Description and Quantity or Quantities of Articles or Services under Consideration for Purchase:

Major Defense Equipment (MDE):

Up to nine hundred sixty-nine (969) AIM-120C-8 Advanced Medium Range Air-to-Air Missiles (AMRAAM)

Up to twelve (12) AIM-120C-8 AMRAAM Guidance Sections

Non-MDE:

Also included are AIM-120 Captive Air Training Missiles (CATM); telemetry kit and control section spares and containers; KGV-135A Communications Security (COMSEC) devices; Common Munitions Built-in-Test Reprogramming Equipment (CMBRE); ADU-891 Computer Test Set Adapter Groups; munitions support and support equipment; classified software delivery and support; spare parts, consumables, accessories, and repair and return support; transportation support; classified publications and technical documentation; studies and surveys; U.S. Government and contractor engineering, technical and logistics support services; and other related elements of logistical and program support.

(iv) Military Department: Air Force (GY-D-YAE)

(v) Prior Related Cases, if any: GY-D-YAD

(vi) Sales Commission, Fee, etc., Paid, Offered, or Agreed to be Paid: None known at this time

(vii) Sensitivity of Technology Contained in the Defense Article or Defense Services Proposed to be Sold: See Attached Annex

(viii) Date Report Delivered to Congress: July 19, 2023

* As defined in Section 47(6) of the Arms Export Control Act.

POLICY JUSTIFICATION

Germany—AIM-120C-8 Advanced Medium-Range Air-to-Air Missiles (AMRAAM)

The Government of Germany has requested to buy up to nine hundred sixty-nine (969) AIM-120C-8 Advanced Medium Range Air-to-Air Missiles (AMRAAM); and up to twelve (12) AMRAAM C8 Guidance Sections. Also included are AIM-120 Captive Air Training Missiles (CATM); telemetry kit and control section spares and containers; KGV-135A Communications Security (COMSEC) devices; Common Munitions Built-in-Test Reprogramming Equipment (CMBRE); ADU 891 Computer Test Set Adapter Groups; munitions support and support equipment; classified software delivery and support; spare parts, consumables, accessories, and repair and return support; transportation support; classified publications and technical documentation; studies and surveys; U.S. Government and contractor engineering, technical and logistics support services; and other related elements of logistical and program support. The estimated total cost is $2.90 billion.

This proposed sale will support the foreign policy and national security of the United States by improving the security of a North Atlantic Treaty Organization (NATO) ally that is an important force for political and economic stability in Europe.

The proposed sale will improve Germany's capability to meet current and future threats by ensuring they have modern, capable air-to-air munitions. This sale will further advance the already high level of German Air Force interoperability with U.S. joint forces and other regional and NATO forces. Germany already has AMRAAMs in its inventory and will have no difficulty absorbing these articles and services into its armed forces.

The proposed sale of this equipment and support will not alter the basic military balance in the region.

The principal contractor will be Raytheon Missiles and Defense, Tucson, AZ. There are no known offset agreements proposed in connection with this potential sale.

Implementation of this proposed sale will not require the assignment of any additional U.S. Government or contractor representatives to the Federal Republic of Germany.

There will be no adverse impact on U.S. defense readiness as a result of this proposed sale.

Transmittal No. 23-51

Notice of Proposed Issuance of Letter of Offer Pursuant to Section 36(b)(1) of the Arms Export Control Act

Annex

Item No. vii

(vii) Sensitivity of Technology:

1. The AIM-120C-8 Advanced Medium Range Air-to-Air Missile (AMRAAM) is a supersonic, air launched, aerial intercept, guided missile featuring digital technology and micro-miniature solid-state electronics. AMRAAM capabilities include look-down/shoot-down, multiple launches against multiple targets, resistance to electronic countermeasures, and interception of high- and low-flying and maneuvering targets. This potential sale will include Captive Air Training Missiles (CATM) as well as guidance section, control section, and telemetry system spares and containers.

2. The KGV-135A is a high-speed, general purpose encryptor/decryptor module used for wide-band data encryption.

3. Common Munitions Built-In-Test (BIT)/Reprogramming Equipment (CMBRE) is supporting equipment used to interface with weapon systems to initiate and report BIT results and upload/download flight software. CMBRE supports multiple munitions platforms with a range of applications that perform preflight checks, periodic maintenance checks, loading of Operational Flight Program (OFP) data, loading of munitions mission planning data, loading of Global Positioning System (GPS) cryptographic keys, and declassification of munitions memory.

4. The ADU-891 Computer Test Set Adapter Groups provide the physical and electrical interface between the CMBRE and missile.

5. The highest level of classification of defense articles, components, and services included in this potential sale is SECRET.

6. If a technologically advanced adversary were to obtain knowledge of the specific hardware and software elements, the information could be used to develop countermeasures that might reduce weapon system effectiveness or be used in the development of a system with similar or advanced capabilities.

7. A determination has been made that the Government of Germany can provide substantially the same degree of protection for the sensitive technology being released as the U.S. Government. This sale is necessary in furtherance of the U.S. foreign policy and national security objectives outlined in the Policy Justification.

8. All defense articles and services listed in this transmittal have been authorized for release and export to the Government of Germany.

[FR Doc. 2024-24491 Filed 10-22-24; 8:45 am]

BILLING CODE 6001-FR-P